DEPARTMENT OF TRANSPORTATION

Federal Highway Administration

Supplemental Environmental Impact Statement: I-94 Rehabilitation Project From East of I-94 to East of Conner Avenue in Detroit, Michigan

AGENCY: U.S. Department of Transportation, Federal Highway Administration (FHWA).

ACTION: Notice of intent to prepare a Supplemental Environmental Impact Statement (SEIS) and section 4(f) evaluation.

SUMMARY: FHWA is issuing this notice to advise the public that a SEIS will be prepared for the I-94 Rehabilitation Project.

FOR FURTHER INFORMATION CONTACT: Patrick Marchman, Environmental Program Manager, Federal Highway Administration, 315 W. Allegan, Room 201, Lansing, Michigan 48933. Telephone: (517) 702-1820. Email: Patrick.Marchman@dot.gov.

SUPPLEMENTARY INFORMATION:

Background

The FHWA, in cooperation with the Michigan Department of Transportation (MDOT), will prepare a SEIS to examine the impacts of modifying the approved selected alternative for the I-94 Rehabilitation Project from the Record of Decision (FHWA-MI-EIS-01-01-F). The approved selected alternative included the complete reconstruction of 6.7 miles of I-94 in the City of Detroit, with widening from three lanes to four lanes in each direction, continuous service roads, new interchanges at M-10 and I-75 and new bridges over I-94.

The SEIS will study the use of local roads as local connections to the service drives and interchanges, modification of local access ramps to and from I-94, M-10 and I-75, and the addition of several vehicular and pedestrian bridges as well as non-motorized walkways/paths. The SEIS will analyze the potential impacts to natural, human, and cultural resources (Section 4(f), local streets, air, noise, contaminated sites, etc.).

Opportunity for input will be provided through a public involvement program. A Public Hearing on the Draft SEIS will be scheduled and held to solicit formal input. The Draft SEIS will be made available for public review and comment and comments will be responded to in a Final SEIS. A Notice of Availability of the Draft SEIS will be made through direct mail, publication in the Federal Register, and other media. Notification will also be sent to appropriate Federal, State, and Participating agencies, local agencies, as well as people and private organizations that submit comments or questions. Additional project information will be made available through a widely-distributed newsletter and on the project Web site www.michigan.gov/94detroit.

Comments or questions from all interested parties concerning this proposed action and the SEIS should be directed to FHWA at the address provided above.

Paperwork Reduction

The Paperwork Reduction Act seeks, in part, to minimize the cost to the taxpayer of the creation, collection, maintenance, use, dissemination, and disposition of information. Consistent with this goal and with principles of economy and efficiency in government, FHWA tries to limit insofar as possible distribution of complete printed sets of NEPA documents. Accordingly, unless a specific request for a complete printed set of the NEPA document is received before the document is printed, FHWA and MDOT will distribute only electronic copies of the NEPA document. A complete printed set of the environmental document will be available for review at MDOT's offices; an electronic copy of the complete environmental document will be available on the Project Web site.

Issued on: June 12, 2017.
Mark G. Lewis,
Program Development Team Leader.

[FR Doc. 2017-14170 Filed 7-5-17; 8:45 am]

BILLING CODE P